DEPARTMENT OF THE INTERIOR

Bureau of Land Management

[MT-060-01-1020-PG]

Notice of Public Meeting; Central Montana Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central Montana Resource Advisory Council (RAC) will meet as indicated below.

DATES: The meeting will be held January 12 and 13, 2010.

The meetings will be in the Bureau of Land Management—Central Montana District Office conference room (920 NE Main St.), Lewistown, Montana.

The January 12 meeting will begin at 10 a.m. with a 30-minute public comment period and will adjourn at 5:30 p.m.

The January 13 meeting will begin at 8 a.m. with a 30-minute public comment period and will adjourn at 3 p.m.

SUPPLEMENTARY INFORMATION: This 15-member council advises the Secretary of the Interior on a variety of management issues associated with public land management in Montana. During these meetings the council will participate in/discuss/act upon:

RAC comments and discussions;

Introductions of staff and RAC members;

A RAC charter review;

The consensus format;

Orientation for new RAC members;

RAC expectations;

District managers' and Oil and Gas Field Station Updates;

A RAC work plan for 2010;

An update on the HiLine RMP;

An update on Sage grouse;

Initial discussion on monument amenity fees;

Bison discussion and possible RAC subgroup;

Potential for expanding review of Forest Service fee proposals;

A review of the recent Cottonwood Workshop;

Stewardship agreements;

A general discussion; and

Administrative details (next meeting date, location, travel vouchers, etc.). All RAC meetings are open to the public. The public may present written comments to the RAC. Each formal RAC meeting will also have time allocated for hearing public comments. Depending on the number of persons wishing to comment and time available, the time for individual oral comments may be limited.

FOR FURTHER INFORMATION CONTACT: Gary L. “Stan” Benes, Central Montana District Manager, Central Montana District Office, P.O. Box 1160, Lewistown, Montana 59457, 406/538-1900.

Dated: December 11, 2009.
Gary L. Benes,
Central Montana District Manager.

[FR Doc. E9-30443 Filed 12-21-09; 8:45 am]

BILLING CODE 4310-$$-P